LEGAL SERVICES CORPORATION

Sunshine Act Meeting; Notice

Time and Date: The Legal Services Corporation Board of Directors' Search Committee for LSC President (“Search Committee” or “Committee”) will meet on November 8, 2010. The meeting will begin at 2 p.m. (Central Time) and continue until conclusion of the Committee's agenda.

Location: Sidley Austin, LLP, 1501 K Street, 1 South Dearborn Street, Chicago, Illinois 60603.

Status of Meeting: Closed. The meeting of the Search Committee will be closed to the public pursuant to a vote of the Board of Directors authorizing the Committee to consider the qualifications of applicants for the position of LSC President for the purpose of identifying candidates to interview.

Such closure is authorized by the relevant provisions of the Government in the Sunshine Act [5 U.S.C. 552b(c)(6)] and LSC's implementing regulation 45 CFR 1622.5(e).¹

¹ 45 CFR 1622.5(e) protects information the disclosure of which would constitute a clearly unwarranted invasion of personal privacy.

A verbatim written transcript will be made of the closed session of the Board meeting. However, the transcript of any portions of the closed session falling within the relevant provisions of the Government in the Sunshine Act [5 U.S.C. 552b(c)(6)] and LSC's implementing regulation 45 CFR 1622.5(e), will not be available for public inspection. A copy of the General Counsel's Certification that in his opinion the closing is authorized by law will be available upon request.

Matters to be Considered:

Closed Session:

1. Approval of agenda.

2. Review and discuss applications for the position of LSC President and select from among those candidates for further consideration.

3. Consider and act on other business.

4. Consider and act on adjournment of meeting.

Contact Person for Information: Kathleen Connors, Executive Assistant to the President, at (202) 295-1500. Questions may be sent by electronic mail to FR_NOTICE_QUESTIONS@lsc.gov.

Special Needs: Upon request, meeting notices will be made available in alternate formats to accommodate visual and hearing impairments. Individuals who have a disability and need an accommodation to attend the meeting may notify Kathleen Connors at (202) 295-1500 or FR_NOTICE_QUESTIONS@lsc.gov.

Dated: October 29, 2010.
Patricia D. Batie,
Corporate Secretary.

[FR Doc. 2010-27808 Filed 10-29-10; 4:15 pm]

BILLING CODE 7050-01-P